DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration (FAA) Aeronautical Charting Forum (ACF) to discuss informational content and design of aeronautical charts and related products, as well as instrument flight procedures development policy and design criteria.

DATES: The ACF is separated into two distinct groups. The Instrument Procedures Group (IPG) will meet April 26, 2011 from 8:30 a.m. to 5 p.m. The Charting Group will meet April 27 and 28, 2011 from 8:30 a.m. to 5 p.m.

ADDRESSES: The meeting will be hosted by Advanced Management Technology, Inc. (AMTI), 1515 Wilson Boulevard, Arlington, VA 22209.

FOR FURTHER INFORMATION CONTACT: For information relating to the Instrument Procedures Group, contact Thomas E. Schneider, FAA, Flight Procedures Standards Branch, AFS-420, 6500 South MacArthur Blvd, P.O. Box 25082, Oklahoma City, OK 73125; telephone (405) 954-5852; fax: (405) 954-2528.

For information relating to the Charting Group, contact John A. Moore, FAA, National Aeronautical Navigation Products Group (AeroNav Products), Regulatory Support and Coordination Team, AJV-3B, 1305 East West Highway, SSMC4, Station 4643, Silver Spring, MD 20910; telephone: (301) 427-5154, fax: (301) 427-5412.

SUPPLEMENTARY INFORMATION: Pursuant to § 10(a)(2) of the Federal Advisory Committee Act (Pub. L. 92-463; 5 U.S.C. App. II), notice is hereby given of a meeting of the FAA Aeronautical Charting Forum to be held from April 26 through April 28, 2011, from 8:30 a.m. to 5 p.m. at Advanced Management Technology, Inc. (AMTI), 1515 Wilson Boulevard, Arlington VA 22209.

The Instrument Procedures Group agenda will include briefings and discussions on recommendations regarding pilot procedures for instrument flight, as well as criteria, design, and developmental policy for instrument approach and departure procedures.

The Charting Group agenda will include briefings and discussions on recommendations regarding aeronautical charting specifications, flight information products, as well as new aeronautical charting and air traffic control initiatives. Attendance is open to the interested public, but will be limited to the space available.

The public must make arrangements by April 8, 2011, to present oral statements at the meeting. The public may present written statements and/or new agenda items to the committee by providing a copy to the person listed in the FOR FURTHER INFORMATION CONTACT section not later than April 8, 2011. Public statements will only be considered if time permits.

Issued in Washington, DC, on February 28, 2011.
John A. Moore,
Co-Chair, Aeronautical Charting Forum.

[FR Doc. 2011-4958 Filed 3-3-11; 8:45 am]

BILLING CODE 4910-13-P